NUCLEAR REGULATORY COMMISSION

Sunshine Act Meeting

Agency Holding the Meeting: Nuclear Regulatory Commission.

Date: Weeks of June 17, 24, July 1, 8, 15, 22, 2002.

Place: Commissioner's Conference Room, 11555 Rockville Pike, Rockville, Maryland.

Status: Public and Closed.

Matters to be considered:

Week of June 17, 2002

There are no meetings scheduled for the Week of June 17, 2002.

Week of June 24, 2002—Tentative

Tuesday, June 25, 2002

1:55 p.m. Affirmation Session (Public Meeting) (If needed).

Wednesday, June 26, 2002

10:30 a.m. All Employees Meeting (Public Meeting).

1:30 p.m. All Employees Meeting (Public Meeting).

Week of July 1, 2002—Tentative

Monday, July 1, 2002.

2:00 p.m. Discussion of International Safeguards Issues (Closed—Ex. 9).

Week of July 8, 2002—Tentative

Wednesday, July 10, 2002

9:25 a.m. Affirmation Session (Public Meeting) (If needed).

9:30 a.m. Briefing on License Renewal Program and Power Update Review Activities (Public Meeting) (Contacts: Noel Dudley, 301-415--1154, for license renewal program; Mohammed Shuaibi, 301-415-2859, for power update review activities).

This meeting will be webcast live at the Web address— http://www.nrc.gov.

2:00 p.m. Meeting with Advisory Committee on Reactor Safeguards (ACRS) (Public Meeting) (Contact: John Larkins, 301-415-7360).

This meeting will be webcast live at the Web address— http://www.nrc.gov.

Week of July 15, 2002—Tentative

Thursday, July 18, 2002

1:55 p.m. Affirmation Session (Public Meeting) (If needed).

2:00 p.m. Briefing on Special Review Group Response to Differing Professional Opinion/Differiing Professional View (DPO/DPV) Review (Public Meeting) (Contact: John Craig, 301-415-1703).

This meeting will be webcast live at the Web address— http://www.nrc.gov.

Week of July 22, 2002—Tentative

There are no meetings scheduled for the Week of July 22, 2002.

______

*The schedule for Commission meetings is subject to change on short notice. To verify the status of meetings call (recording)—(301) 415-1292. Contact person for more information: David Louis Gamberoni (301) 415-1651.

The NRC Commission Meeting Schedule can be found on the Internet at: http://www.nrc.gov/what-we-do/policy-making/schedule.html.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dk2@nrc.gov.

Dated: June 13, 2002.
David Louis Gamberoni,
Technical Coordinator, Office of the Secretary.

[FR Doc. 02-15419 Filed 6-14-02; 11:57 am]

BILLING CODE 7590-01-M